COMMISSION ON CIVIL RIGHTS

Notice of Public Meeting of the New York Advisory Committee; Cancellation

AGENCY: Commission on Civil Rights.

ACTION: Notice; cancellation of virtual business meeting.

SUMMARY: The Commission on Civil Rights published a notice in the Federal Register concerning a virtual business meeting of the New York Advisory Committee. The meeting scheduled for Friday, September 16, 2022, at 1 p.m. (ET) is cancelled. The notice is in the Federal Register of Friday, July 22, 2022, in FR Doc. 2022-15638 in the first and second columns of page 43784.

FOR FURTHER INFORMATION CONTACT: Liliana Schiller, lschiller@usccr.gov, (202) 770-1856.

Dated: September 7, 2022.
David Mussatt,
Supervisory Chief, Regional Programs Unit.

[FR Doc. 2022-19700 Filed 9-12-22; 8:45 am]

BILLING CODE P